DEPARTMENT OF THE TREASURY

Office of Thrift Supervision

12 CFR Parts 563, 563c, and 563g

[No. 2000-43]

RIN 1550-AB38

Transfer and Repurchase of Government Securities

AGENCY: Office of Thrift Supervision, Treasury.

ACTION: Direct Final Rule: confirmation of effective date.

SUMMARY: This document confirms the effective date of the direct final rule removing the Office of Thrift Supervision's regulation on the transfer and repurchase of government securities. We did not receive any written adverse comments in response to the direct final rule.

EFFECTIVE DATE: The direct final rule, published on March 28, 2000 (65 FR 16302-305), is effective May 30, 2000.

FOR FURTHER INFORMATION CONTACT: Ed O'Connell, (202) 906-5694, Project Manager, Supervision Policy: or Teresa Scott (202) 906-6478, Counsel (Banking and Finance), Regulations and Legislation Division, Chief Counsel's Office, Office of Thrift Supervision, 1700 G Street, NW., Washington DC 20552.

Authority: 12 U.S.C. 375b, 1462, 1462a, 1463, 1464, 1467a, 1468, 1817, 1820, 1828, 1831i, 3806; 15 U.S.C. 78c(b), 78l, 78m, 78n, 78p, 78w; 42 U.S.C. 4106.

Dated: May 8, 2000.
By the Office of Thrift Supervision.
Ellen Seidman,
Director.

[FR Doc. 00-11910 Filed 5-11-00; 8:45 am]

BILLING CODE 6720-01-P